INTERNATIONAL TRADE COMMISSION

[Investigation Nos. 701-TA-393 and 731-TA-829-840 (Final) (Remand)]

Cold-Rolled Steel From Argentina, Brazil, China, Indonesia, Japan, Russia, Slovakia, South Africa, Taiwan, Thailand, Turkey, and Venezuela; Notice and Scheduling of Remand Proceedings

AGENCY: International Trade Commission.

ACTION: Notice.

SUMMARY: The United States International Trade Commission (Commission) gives notice of the court-ordered remand of its final countervailing duty and antidumping duty investigations Nos. 701-TA-393 and 731-TA-829-840 (Final) (Remand).

FOR FURTHER INFORMATION CONTACT: Michael Diehl, Esq., Office of the General Counsel, telephone (202) 205-3095 or Diane Mazur, Office of Investigations, telephone (202) 205-3184, 500 E Street SW., Washington, DC 20436, U.S. International Trade Commission. Hearing-impaired individuals are advised that information on this matter can be obtained by contacting the Commission's TDD terminal on (202) 205-1810. General information concerning the Commission may also be obtained by accessing its Internet server (http://www.usitc.gov).

SUPPLEMENTARY INFORMATION:

Reopening the Record

In March, May, and July of 2000, the Commission made negative final determinations in the referenced investigations. The determinations were appealed to the U.S. Court of International Trade (CIT). On October 28, 2003, the CIT issued an opinion requiring the Commission to reconsider its findings on the applicability of the captive production provision (19 U.S.C. 1677(7)(C)(iv)) and its injury determination. The Commission was instructed to file its findings on remand within 90 days of its order, or on January 26, 2004.

In order to assist it in making its determinations on remand, the Commission is reopening the record on remand in these investigations to include information bearing on the applicability of the captive production provision. The record in these proceedings will encompass the material from the record of the original investigations and information gathered by Commission staff during the remand proceedings.

Participation in the Proceedings

Only those persons who were interested parties to the original administrative proceedings and are parties to the ongoing litigation (i.e., persons listed on the Commission Secretary's service list and parties to Bethlehem Steel v. United States, Consol. Ct. No. 00-00151) may participate in these remand proceedings.

Nature of the Remand Proceedings

On January 5, 2004, the Commission will make available to parties who participate in the remand proceedings information that has been gathered by the Commission as part of these remand proceedings. Parties that are participating in the remand proceedings may file comments on or before January 8, 2004 on whether any new information received affects the Commission's findings as to the applicability of the captive production provision in these investigations. Any material in the comments that does not address this limited issue will be stricken from the record or disregarded. No additional new factual information may be included in such comments. Comments shall be typewritten and submitted in a font no smaller than 11-point (Times new roman) and shall not exceed twelve double-spaced pages (inclusive of any footnotes, tables, graphs, exhibits, appendices, etc.).

In addition, all written submissions must conform with the provisions of section 201.8 of the Commission's rules; any submissions that contain business proprietary information (BPI) must also conform with the requirements of sections 201.6, 207.3, and 207.7 of the Commission's rules. The Commission's rules do not authorize filing submissions with the Secretary by facsimile or electronic means. Each document filed by a party participating in the remand investigations must be served on all other parties who may participate in the remand investigations (as identified by either the public of BPI service list), and a certificate of service must be timely filed. The Secretary will not accept a document for filing without a certificate of service. Parties are also advised to consult the Commission's Rules of Practice and Procedure, part 201, subparts A through E (19 CFR part 201), and part 207, subpart A (19 CFR part 207) for provisions of general applicability concerning written submissions to the Commission.

Limited Disclosure of Business Proprietary Information (BPI) Under an Administrative Protective Order (APO) and BPI Service List

Information obtained during the remand investigations will be released to the referenced parties, as appropriate, under the administrative protective order (APO) in effect in the original investigation. A separate service list will be maintained by the Secretary for those parties authorized to receive BPI under the APO in these remand investigations.

Authority: This action is taken under the authority of the Tariff Act of 1930, title VII.

By order of the Commission.
Issued: December 15, 2003.
Marilyn R. Abbott,
Secretary to the Commission.

[FR Doc. 03-31272 Filed 12-17-03; 8:45 am]

BILLING CODE 7020-02-P